ENVIRONMENTAL PROTECTION AGENCY

[FRL-7575-5]

Notice of Intent To Assess Administrative Penalty and Opportunity for Public Comment

AGENCY: Environmental Protection Agency.

ACTION: Notice; request for public comment.

SUMMARY: The U.S. Environmental Protection Agency (EPA), Region IX, is hereby giving notice that it has issued an Administrative Complaint to Sofia's Mexican Food, Inc. and notice of its intent to assess Class I administrative penalties in an amount not to exceed twenty-seven thousand five-hundred dollars ($27,500) under section 309(g) of the Clean Water Act, 33 U.S.C. part 1319(g). This Complaint was issued to Sofia's Mexican Foods, Inc. for failure to comply with the self-monitoring reporting requirements required under 40 CFR 403.12(h), and required under its Industrial Wastewater Discharge Permit issued by the Sanitation Districts of Los Angeles County.

DATES: Comments must be submitted on or before November 17, 2003.

ADDRESSES: Submit comments to: Danielle Carr, Regional Hearing Clerk, U.S. Environmental Protection Agency Region IX, 75 Hawthorne Street, San Francisco, CA 94105-3901.

Documents from the administrative record file may be obtained by writing Ms. Carr at the above address.

FOR FURTHER INFORMATION CONTACT: Interested parties may contact the following EPA representative to learn more about this action. Richard Campbell, U.S. Environmental Protection Agency Region IX, 75 Montgomery Street, San Francisco, CA 94105-3901, (415) 972-3870.

SUPPLEMENTARY INFORMATION: The following further identifies the case and should be included in any written comments submitted:

Name of Case: In the Matter of Sofia's Mexican Food, Inc., 1100 East Holt Avenue, Pomona, CA 91767.

Docket Number: CWA-9-2003-0004.

Date Filed: September 25, 2003.

Section 309(g) of the Act, 33 U.S.C. 1319(g), requires that interested persons be given notice of the proposed penalty and a reasonable opportunity to comment. Procedures by which the public may submit written comments or participate in the proceedings are described in the Consolidated Rules of Practice Governing the Administrative Assessment of Civil Penalties, Issuance of Compliance or Corrective Action Orders, and the Revocation, Termination or Suspension of Permits, 40 CFR part 22. The deadline for submission of written public comments is thirty (30) days after issuance of this public notice. Comments should be made to Danielle Carr at the address typed above.

If Respondent requests a hearing within thirty (30) days of receiving the Administrative Complaint, those submitting written comments in response to this Notice will be advised of the time and date of the hearing and may appear to present evidence on the appropriateness of the proposed penalty. The final administrative penalty order will be issued at the close of the thirty-day comment period unless a public hearing is requested.

Dated: October 7, 2003.
Alexis Strauss,
Director, Water Division, Region IX.

[FR Doc. 03-26322 Filed 10-16-03; 8:45 am]

BILLING CODE 6560-50-P